DEPARTMENT OF DEFENSE

GENERAL SERVICES ADMINISTRATION

NATIONAL AERONAUTICS AND SPACE ADMINISTRATION

[OMB Control No. 9000-0182]; Docket No. 2016-0053; Sequence 32]

Submission for OMB Review; Privacy Training

AGENCY: Department of Defense (DOD), General Services Administration (GSA), and National Aeronautics and Space Administration (NASA).

ACTION: Notice of request for comments regarding a new OMB clearance.

SUMMARY: Under the provisions of the Paperwork Reduction Act, the Regulatory Secretariat Division will be submitting to the Office of Management and Budget (OMB) a request for approval of an information collection requirement regarding privacy training. A notice was published in the Federal Register at 76 FR 63896 on October 14, 2011, as part of a proposed rule under FAR Case 2010-013. Two public comments were received on the information collection.

DATES: Submit comments on or before December 8, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0182. Select the link “Comment Now” that corresponds with “Information Collection 9000-0182, Privacy Training”. Follow the instructions provided on the screen. Please include your name, company name (if any), and “Information Collection 9000-0182, Privacy Training” on your attached document.

• Mail: General Services Administration, Regulatory Secretariat Division (MVCB), 1800 F Street NW., Washington, DC 20405. ATTN: Ms. Flowers/IC 9000-0182, Privacy Training.

Instructions: Please submit comments only and cite Information Collection 9000-0182, Privacy Training, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Charles Gray, Procurement Analyst, Office of Governmentwide Acquisition Policy, at telephone 703-795-6328 or via email to charles.gray@gsa.gov.

SUPPLEMENTARY INFORMATION:

A. Purpose

The Privacy Act of 1974, (5 U.S.C. 552a) prescribes fair information practices for the collection, maintenance, use, and dissemination of personal information by Federal agencies. Consistent with the provisions of the Privacy Act of 1974, OMB Circular A-130, “Managing Information as a Strategic Resource,” and other OMB memoranda, this rule specifically addresses the recordkeeping and reporting associated with FAR clause 52.224-XX, “Privacy Training.” The clause is used in solicitations and contracts whenever contract performance requires the employees of the contractor (or the employees of subcontractors) to have access to personally identifiable information (PII), including access to a system of records on individuals or entails the design, development, maintenance, or the operation of a system of records on individuals. The recordkeeping effort involves maintenance of training completion documentation by contractors; the reporting covers submission of the training completion documentation to the contracting officer upon request. It is anticipated that the Government would request this documentation only rarely.

B. Discussion and Analysis

DoD, GSA, and NASA provided notification of the applicability of the Paperwork Reduction Act and requested approval for a new information collection requirement as part of FAR Case 2010-013, published at 76 FR 63896, on October 14, 2011. Two respondents commented on the annual burden estimate.

Comment: The respondents stated that the annual burden estimate with respect to the public's Paperwork Reduction Act reporting burden was understated. The respondents believed that (a) requiring contractors to conduct their own privacy training and (b) requiring re-training every year created a greater burden on contractors.

Response: In response to the concerns expressed by these respondents, it is noted that this information collection requirement does not address the burden associated with conducting the initial or subsequent annual privacy training. Rather, it focuses solely on the obligation of Federal contractors' to maintain documentation showing that the required privacy training was completed by the employee and, upon request, provide completion documentation to the contracting officer. However, since the analysis used in the proposed rule did not encompass contracts involving the acquisition of commercial items, the methodology used to derive the estimated hourly and cost burden described in the proposed rule has been revised in the final rule.

C. Annual Reporting Burden

Recordkeeping

Number of Respondents: 31,821.

Responses per Respondent: 6.

Total annual Responses: 194,942.

Preparation hours per response: .5.

Total Recordkeeping Burden Hours: 97,471.

Reporting

Number of Respondents: 796.

Responses per Respondent: 1.

Total annual Responses: 796.

Preparation hours per response: .25.

Total Recordkeeping Burden Hours: 199.

Total Recordkeeping and Reporting Burden Hours: 97,670.

Affected Public: Businesses or other for-profit institutions and not for profit institutions.

Frequency: On occasion.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755.

Please cite OMB Control No. 9000-0182, Privacy Training, in all correspondence.

Dated: November 2, 2016.
Lorin S. Curit,
Director, Federal Acquisition Policy Division, Office of Governmentwide Acquisition Policy, Office of Acquisition Policy, Office of Governmentwide Policy.

[FR Doc. 2016-26889 Filed 11-7-16; 8:45 am]

BILLING CODE P